DEPARTMENT OF ENERGY

Federal Energy Regulatory Commission

[Project No. 1267-089]

Greenwood County, SC; Notice of Availability of Environmental Assessment

September 1, 2010.

In accordance with the National Environmental Policy Act of 1969 and the Federal Energy Regulatory Commission's regulations, 18 CFR part 380 (Order No. 486, 52 FR 47879), the Office of Energy Projects has prepared an environmental assessment (EA) for an application filed by Greenwood County, South Carolina (licensee) on January 26, 2010, requesting Commission approval to amend article 407 of its project license for the Buzzards Roost Hydroelectric Project (FERC No. 1267). The licensee requests permission to revise the schedule for management of lake levels (rule curve) to maintain the lake at the summer level until November 1 in order to facilitate late-season recreation. The licensee also proposes to maintain the lake at its annual low from January 15 until February 1 of each year in order to provide a period for adjacent landowners to work on permitted encroachments. The licensee states that it would vary from article 407 to perform necessary maintenances, safely manage flood flows, during operating emergencies, and to meet minimum flow requirements under article 408. The project is located on the Saluda River in Greenwood, Laurens, and Newberry Counties, South Carolina. The project does not occupy any federal lands.

The EA evaluates the environmental impacts that would result from approving the licensee's proposal to amend article 407 of the project license. The EA finds that approval of the application would not constitute a major federal action significantly affecting the quality of the human environment.

A copy of the EA is attached to a Commission Order titled “Order Amending License,” issued August 31, 2010, and is on file with the Commission and is available for public inspection. The EA may also be viewed on the Commission's Web site at http://www.ferc.gov using the “eLibrary” link. Enter the docket number (P-1267) excluding the last three digits in the docket number field to access the document. For assistance, contact FERC Online Support at FERCOnlineSupport@ferc.gov or toll-free at 1-866-208-3372, or for TTY, (202) 502-8659.

Kimberly D. Bose,
Secretary.

[FR Doc. 2010-22299 Filed 9-7-10; 8:45 am]

BILLING CODE 6717-01-P